DEPARTMENT OF HEALTH AND HUMAN SERVICES

National Institutes of Health

Proposed Collection; 60-Day Comment Request; Recruitment and Screening for the Insight Into Determination of Exceptional Aging and Longevity (IDEAL) Study (NIA)

Summary: In compliance with the requirement of Section 3506(c)(2)(A) of the Paperwork Reduction Act of 1995, for opportunity for public comment on proposed data collection projects, the National Institute on Aging (NIA), National Institutes of Health (NIH), will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and for Further Information: To obtain a copy of the data collection plans and instruments, submit comments in writing, or request more information on the proposed project, contact: Luigi Ferrucci, M.D., Ph.D., NIA Clinical Research Branch, Harbor Hospital, 5th Floor 3001 S. Hanover, Baltimore, MD 21225 or call non-toll-free number (410) 350-3936 or Email your request, including your address to: Ferruccilu@grc.nia.nih.gov. Formal requests for additional plans and instruments must be requested in writing.

Comment Due Date: Comments regarding this information collection are best assured of having their full effect if received within 60 days of the date of this publication.

Proposed Collection: Recruitment and Screening for the Insight into Determination of Exceptional Aging and Longevity (IDEAL) Study—(0925-0631). Reinstatement with Change—National Institute on Aging (NIA), National Institutes of Health (NIH).

Need and Use of Information Collection: Longevity combined with good health and functionality at the end of life represents a common goal. Although research has examined correlates of long life and functional decline, we still know relatively little about why certain individuals live in excellent health into their eighties while others succumb to failing health at much younger ages. Understanding the mechanisms important to ideal aging may provide new opportunity for health promotion and disability prevention is this rapidly growing segment of the population.

The purpose of IDEAL (Insight into the Determinants of Exceptional Aging and Longevity) is to recruit into the Baltimore Longitudinal Study on Aging (BLSA) exceptionally long lived and healthy individuals and to learn what makes them so resilient and resistant to disease and disability, and to identify potential interventions that may contribute to the IDEAL condition. By enrolling the IDEAL cohort in the BLSA their biologic, physiologic, behavioral and functional characteristics will be evaluated using the same methods used with the current cohort who will serve as a type of control group. The first aim is to identify factors and characteristics that distinguish IDEAL from non-IDEAL individuals. We intend to compare the two groups to identify factors that discriminate IDEAL aging from non-IDEAL aging individuals. The second aim is to identify physiological, environmental and behavioral characteristics that are risk factors for losing the IDEAL condition over several years or longer. We postulate that the mechanisms of extreme longevity probably differ from those associated with delay or escape from disease and disability. As is customary in the BLSA, we plan to follow this cohort for life with yearly visits. This is a request for OMB clearance to continue to recruit and screen respondents into the Recruitment and Screening for the Insight into Determination of Exceptional Aging and Longevity (IDEAL) Study over the next 3 years.

OMB approval is requested for 3 years. There are no costs to the respondents other than their time. The total estimated annualized burden hours are 263.

Estimated Annualized Burden Hours
Type of respondent | Form name | Estimated annual number of respondents | Number of responses per respondent | Average time per response (in hours) | Total annual burden hours
Individuals | Recruitment Phone Screen Part 1 | 500 | 1 | 10/60 | 83
Individuals | Recruitment Phone Screen Part 2 | 200 | 1 | 10/60 | 33
Individuals | Pre-Visit mailing/Consent | 100 | 1 | 10/60 | 17
Individuals | Screening Exam Visit | 65 | 1 | 2 | 130

Dated: March 25, 2014.
Jessica Schwartz,
NIA Project Clearance Liaison, National Institutes of Health.

[FR Doc. 2014-07391 Filed 4-1-14; 8:45 am]

BILLING CODE 4140-01-P